FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201402.

Agreement Name: American Roll-On Roll-Off Carrier/Liberty Space Charter Agreement.

Parties: American Roll-On Roll-Off Carrier, LLC; Liberty Global Logistics LLC.

Filing Party: Bryant Gardner, Winston & Strawn LLP.

Synopsis: The Agreement would authorize the parties to discuss areas of potential cooperation and possibly engage in the purchasing of space on the vessels operated by one another for direct service or transshipment from ports and points in the United States, on the one hand, and ports and points in all other countries worldwide, on the other hand.

Proposed Effective Date: 5/8/2023.

Location: https://www2.fmc.gov/FMC.Agreements.Web/Public/AgreementHistory/78502.

Dated: March 31, 2023.
JoAnne O'Bryant,
Program Analyst.

[FR Doc. 2023-07075 Filed 4-4-23; 8:45 am]

BILLING CODE 6730-02-P